DEPARTMENT OF HEALTH AND HUMAN SERVICES

National Institutes of Health

Eunice Kennedy Shriver National Institute of Child Health and Human Development; Amended Notice of Meeting

Notice is hereby given of a change in the meeting of the National Institute of Child Health and Human Development Special Emphasis Panel, which was published in the Federal Register on February 28, 2019, 84 FR 6808.

The meeting date has changed from a two-day meeting on June 27th and June 28th, 2019 to a one day meeting on June 28th, 2019. The meeting is closed to the public.

Dated: May 28, 2019.
Ronald J. Livingston, Jr.,
Program Analyst, Office of Federal Advisory Committee Policy.

[FR Doc. 2019-11437 Filed 5-31-19; 8:45 am]

BILLING CODE 4140-01-P